DEPARTMENT OF STATE

[Public Notice 3911]

Shipping Coordinating Committee; Notice of Meeting

The Shipping Coordinating Committee (SHC) will conduct an open meeting at 2 p.m. on Wednesday, March 27, 2002, in Room 2415 of the United States Coast Guard Headquarters Building, 2100 2nd Street SW., Washington, DC 20593-0001. The primary purpose of the meeting is to prepare for the 10th Session of the International Maritime Organization (IMO) Sub-Committee on Flag State Implementation to be held at IMO Headquarters in London, England from April 8th to 12th.

The primary matters to be considered include:

—Responsibilities of Governments and measures to encourage flag State compliance;

—Self-assessment of flag State performance;

—Implications arising when a vessel loses the right to fly the flag of a State;

—Regional cooperation on port State control;

—Reporting procedures on port State control detentions and analysis and evaluation of reports;

—Mandatory reports under International convention for the Prevention of Pollution (MARPOL 73/78);

—Casualty statistics and investigations;

—Review of resolutions A.744(18) and A.746(18);

—Illegal, unregulated and unreported (IUU) fishing and related matters;

—Matters related to the Commission on Sustainable Development;

—Development of guidelines for survey and certification for anti-fouling paints.

Members of the public may attend this meeting up to the seating capacity of the room. Interested persons may seek information by writing to Commander Linda Fagan, Commandant (G-MOC), U.S. Coast Guard Headquarters, 2100 2nd Street, SW., Room 1116, Washington, DC 20593-0001, or by calling (202) 267-0972.

Dated: March 1, 2002.
Stephen Miller,
Executive Secretary, Shipping Coordinating Committee, Department of State.

[FR Doc. 02-5648 Filed 3-7-02; 8:45 am]

BILLING CODE 4710-07-P